DEPARTMENT OF HEALTH AND HUMAN SERVICES

Food and Drug Administration

[Docket No. 02F-0316]

Intralytix, Inc.; Filing of Food Additive Petition

AGENCY: Food and Drug Administration, HHS.

ACTION: Notice.

SUMMARY: The Food and Drug Administration (FDA) is announcing that Intralytix, Inc., has filed a petition proposing that the food additive regulations be amended to provide for the safe use of a mixture of bacteriophages as an antimicrobial agent on foods, including fresh meat, meat products, fresh poultry, and poultry products.

FOR FURTHER INFORMATION CONTACT: Raphael A. Davy, Center for Food Safety and Applied Nutrition (HFS-265), Food and Drug Administration, 5100 Paint Branch Pkwy., College Park, MD 20740, 202-418-3405.

SUPPLEMENTARY INFORMATION: Under the Federal Food, Drug, and Cosmetic Act (sec. 409(b)(5) (21 U.S.C. 348(b)(5))), notice is given that a food additive petition (FAP 2A4738) has been filed by Intralytix, Inc., c/o Lewis & Harrison, 122 C St. NW., suite 740, Washington, DC 20001. The petition proposes to amend the food additive regulations to provide for the safe use of a mixture of bacteriophages as an antimicrobial agent on foods, including fresh meat, meat products, fresh poultry, and poultry products.

The agency has determined under 21 CFR 25.32(r) that this action is of a type that does not individually or cumulatively have a significant effect on the human environment. Therefore, neither an environmental assessment nor an environmental impact statement is required.

Dated: June 27, 2002.
Alan M. Rulis,
Director, Office of Food Additive Safety, Center for Food Safety and Applied Nutrition.

[FR Doc. 02-18465 Filed 7-19-02; 8:45 am]

BILLING CODE 4160-01-S